GENERAL SERVICES ADMINISTRATION

[OMB Control No. 3090-0291; Docket No. 2024-0001; Sequence No. 3]

Submission for OMB Review; Federal Funding Accountability and Transparency Act Sub-Award Reporting System (FSRS) Registration Requirements for Prime Grant Awardees

AGENCY: Office of the Integrated Award Environment, General Services Administration (GSA).

ACTION: Notice of request for public comments regarding an extension to an existing OMB clearance.

SUMMARY: Under the provisions of the Paperwork Reduction Act of 1995, the Regulatory Secretariat Division will be submitting to the Office of Management and Budget (OMB) a request to review and approve a renewal of the currently approved information collection requirement regarding FSRS Registration Requirements for Prime Grant Awardees.

DATES: Submit comments on or before July 3, 2024.

ADDRESSES: Written comments and recommendations for this information collection should be sent within 30 days of publication of this notice to www.reginfo.gov/public/do/PRAMain. Find this particular information collection by selecting “Currently under Review—Open for Public Comments” or by using the search function.

FOR FURTHER INFORMATION CONTACT: Ms. Salomeh Ghorbani, Director, IAE Outreach and Stakeholder Engagement Division, at 703-605-3467 or IAE_Admin@gsa.gov.

SUPPLEMENTARY INFORMATION:

A. Purpose

The Federal Funding Accountability and Transparency Act (Pub. L. 109-282, as amended by section 6202(a) of Pub. L. 110-252), known as FFATA or the Transparency Act, requires information disclosure of entities receiving Federal financial assistance through Federal awards such as Federal contracts, sub-contracts, grants and sub-grants, FFATA 2(a), (2), (i), (ii). The system that collects this information is called the FFATA Sub-award Reporting System (FSRS, www.fsrs.gov). This information collection requires information necessary for prime awardee registration in FSRS to create a user log-in and enable sub-award reporting for their entity. To register in FSRS for a user log-in, an entity is required to provide their Unique Entity Identifier (UEI). FSRS then pulls core data about the entity from their System for Award Management (SAM) registration to include the legal business name, physical address, mailing address and Commercial and Government Entity (CAGE) code. The entity completes the FSRS registration by providing contact information within the entity for approval.

If a prime awardee has already registered in FSRS to report contracts-related Transparency Act financial data, a new log-in will not be required. In addition, if a prime awardee had a user account in the Electronic Subcontract Reporting System (eSRS), a new log-in will not be required.

B. Annual Reporting Burden

Respondents: 2,488.

Responses per Respondent: 1.

Total annual responses: 2,488.

Hours per Response: .5.

Total Burden Hours: 1,244.

C. Public Comments

A 60-day notice published in the Federal Register at 89 FR 14842 on February 29, 2024. One paper with multiple comments was received.

Comment: GSA received a comment on whether the GSA's estimate of the public burden of this collection of information is accurate.

Response: This information collection is specific to the burden of reporting entities registering to report in FSRS, not the actual subaward reporting. The burden of this registration activity is reasonable for the activity of registering in FSRS.

Comment: GSA received a comment on ways to enhance the quality, utility, and clarity of the information to be collected to aid pass-through entities (PTEs) in submitting reliable, high-quality data in FSRS. The comment provided suggestions on (1) improving FSRS FAQs by including screenshot and step-by-step instructions for questions with complex answers, (2) explain how to resolve “Another contractor is already designated as the prime contractor for this contract.” error and (3) provide dedicated technical support solely for FSRS and train support staff thoroughly on the FSRS system.

Response: FSRS and the Federal Service Desk have significant help materials and guides to assist users with reporting data into FSRS.gov. The Federal Service Desk has agents that can assist entities where they are unable to answer their question within the help content. GSA appreciates feedback on usability and user experience and considers it when making updates to the respective service or page so as to improve the site user experience.

Comment: GSA received a comment asking what are ways to minimize the burden of the collection of information.

Response: This information collection is specific to the burden of reporting entities registering to report in FSRS, not the actual subaward reporting. 2 CFR part 170 provides the regulatory guidance associated with reporting subawards that are input into FSRS.

Obtaining Copies of Proposals: Requesters may obtain a copy of the information collection documents from the General Services Administration, Regulatory Secretariat Division (MVCB), 1800 F Street NW, Washington, DC 20405, telephone 202-501-4755. Please cite OMB Control No. 3090-0291, FSRS Registration Requirements for Prime Grant Awardees, in all correspondence.

Lois Mandell,
Director, Regulatory Secretariat Division, General Services Administration.

[FR Doc. 2024-12049 Filed 5-31-24; 8:45 am]

BILLING CODE 6820-WY-P